FEDERAL MINE SAFETY AND HEALTH REVIEW COMMISSION

[BAC 6735-01]

Sunshine Act Notice

January 30, 2017.

TIME AND DATE: 10:00 a.m., Thursday, February 16, 2017.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. Canyon Fuel Company, LLC, Docket Nos. WEST 2015-635, et al. (Issues include whether the Judge erred in concluding that the operator had violated standards governing the safety of alternative escapeways.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

PHONE NUMBER FOR LISTENING TO ARGUMENT: 1-(866) 867-4769, Passcode: 129-339:

Sarah L. Stewart,
Deputy General Counsel.

[FR Doc. 2017-02206 Filed 1-30-17; 4:15 pm]

BILLING CODE 6735-01-P